DEPARTMENT OF HEALTH AND HUMAN SERVICES

Centers for Disease Control and Prevention

Disease, Disability, and Injury Prevention and Control Special Emphasis Panel (SEP)—IP19-001, Surveillance for Respiratory Syncytial Virus (RSV) and Other Viral Respiratory Infections Among Native Americans/Alaskan Natives; IP19-002, Increasing Influenza and Tdap Vaccination of Pregnant Women in Obstetric/Gynecologic Practices in Large Health Systems Through Quality Improvement Interventions and IP19-003, Understanding and Improving Immunization Services Among Adult Hospital Inpatient and Observation/Clinical Decision Unit Settings; Amended Notice of Meeting

Notice is hereby given of a change in the meeting of the Disease, Disability, and Injury Prevention and Control Special Emphasis Panel (SEP)—IP19-001, Surveillance for Respiratory Syncytial Virus (RSV) and Other Viral Respiratory Infections Among Native Americans/Alaskan Natives; IP19-002, Increasing Influenza and Tdap Vaccination of Pregnant Women in Obstetric/Gynecologic Practices in Large Health Systems through Quality Improvement Interventions and IP19-003, Understanding and Improving Immunization Services Among Adult Hospital Inpatient and Observation/Clinical Decision Unit Settings; March 19-20, 2019; 10:00 a.m.-5:00 p.m., (EDT) which was published in the Federal Register on November 26, 2018, Volume 83, Number 227, page 60427.

The meeting is being amended to change the date. The date should read as follows: March 20, 2019; 10:00 a.m.-5:00 p.m. The meeting is closed to the public.

FOR FURTHER INFORMATION CONTACT: Gregory Anderson, M.S., M.P.H., Scientific Review Officer, CDC, 1600 Clifton Road NE, Mailstop E60, Atlanta, Georgia 30333, (404) 718-8833, gca5@cdc.gov. The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-02909 Filed 2-20-19; 8:45 am]

BILLING CODE 4163-18-P